DEPARTMENT OF DEFENSE

Office of the Secretary

[Docket ID: DOD-2011-OS-0053]

Privacy Act of 1974; System of Records

AGENCY: Defense Logistics Agency, DoD.

ACTION: Notice to Amend Two Systems of Records.

SUMMARY: The Defense Logistics Agency is proposing to amend two systems of records notices in its existing inventory of record systems subject to the Privacy Act of 1974 (5 U.S.C. 552a), as amended.

DATES: The proposed action will be effective without further notice on June 13, 2011 unless comments are received which would result in a contrary determination.

ADDRESSES: You may submit comments, identified by docket number and/Regulatory Information Number (RIN) and title, by any of the following methods:

• Federal Rulemaking Portal: <http://www.regulations.gov>. Follow the instructions for submitting comments.

• Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at <http://www.regulations.gov> as they are received without change, including any personal identifiers or contact information.

FOR FURTHER INFORMATION CONTACT: Ms. Jody Sinkler at (703) 767-5045, or Privacy Act Officer, Headquarters Defense Logistics Agency, ATTN: DGA, 8725 John J. Kingman Road, Suite 1644, Fort Belvoir, VA 22060-6221.

SUPPLEMENTARY INFORMATION: The Defense Logistics Agency's system of record notices subject to the Privacy Act of 1974 (5 U.S.C. 552a), as amended, have been published in the Federal Register and are available from the address above.

The specific changes to the record systems being amended are set forth below followed by the notice, as amended, published in its entirety. The proposed amendments are not within the purview of subsection (r) of the Privacy Act of 1974 (5 U.S.C. 552a), as amended, which requires the submission of new or altered systems reports.

Dated: May 9, 2011.
Morgan F. Park,
Alternate OSD Federal Register Liaison Officer, Department of Defense.

S500.10

System name:

Personnel Security Files (June 8, 2009; 74 FR 27117).

Changes:

* * * * *

System location:

Delete entry and replace with “Defense Logistics Agency Intelligence Office, Headquarters, Defense Logistics Agency, 8725 John J. Kingman Road, Stop 6220, Fort Belvoir, VA 22060-6221 and the Defense Logistics Agency (DLA) Intelligence Offices of the DLA Primary Level Field Activities (PLFAs). The PLFA mailing addresses are published as an appendix to DLA's compilation of systems of records notices.”

* * * * *

Purpose(s):

Within entry, replace “Security Managers” with “Personnel Security Specialists.”

* * * * *

System manager(s) and address:

Delete entry and replace with “Personnel Security Specialists, Defense Logistics Agency, ATTN: DLA Intelligence Office, 8725 John J. Kingman Road, Fort Belvoir, VA 22060-6221; and the Personnel Security Specialists of the DLA Primary Level Field Activities (PLFAs). The PLFA mailing addresses are published as an appendix to DLA's compilation of systems of records notices.”

Notification procedure:

Delete entry and replace with “Individuals seeking to determine whether information about themselves is contained in this system should address written inquiries to the DLA FOIA/Privacy Act Office, Headquarters, Defense Logistics Agency, ATTN: DGA, 8725 John J. Kingman Road, Suite 1644, Fort Belvoir, VA 22060-6221.

Requests should contain the subject individual's full name, Social Security Number (SSN), date and place of birth, current address, and telephone number.”

Record access procedures:

Delete entry and replace with “Individuals seeking access to information about themselves contained in this system should address written inquiries to the DLA FOIA/Privacy Act Office, Headquarters, Defense Logistics Agency, ATTN: DGA, 8725 John J. Kingman Road, Suite 1644, Fort Belvoir, VA 22060-6221.

Requests should contain the subject individual's full name, Social Security Number (SSN), date and place of birth, current address, and telephone number.

In addition, the requester must provide a notarized statement or an unsworn declaration made in accordance with 28 U.S.C. 1746, in the following format. The unsworn declaration statement must be signed and dated.

If executed within the United States, its territories, possessions, or commonwealths the statement must read: ‘I declare under penalty of perjury that the foregoing is true and correct. Executed on (date). (Signature).'

If executed outside the United States, its territories, possessions, or commonwealths the statement must read: ‘I declare under penalty of perjury under the laws of the United States of America that the foregoing is true and correct. Executed on (date). (Signature).' ”

Contesting record procedures:

Delete entry and replace with “The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.”

* * * * *

S500.10

System name:

Personnel Security Files.

System location:

Defense Logistics Agency Intelligence Office, Headquarters, Defense Logistics Agency, 8725 John J. Kingman Road, Stop 6220, Fort Belvoir, VA 22060-6221 and the Defense Logistics Agency (DLA) Intelligence Offices of the DLA Primary Level Field Activities (PLFAs). The PLFA mailing addresses are published as an appendix to DLA's compilation of systems of records notices.

Categories of individuals covered by the system:

All DLA civilian employees, military personnel and contractors who have been the subject of a personnel security investigation pertaining to their qualifications and eligibility to occupy sensitive positions, perform sensitive duties, or for access to classified information.

Categories of records in the system:

Individual's name, Social Security Number (SSN), home address and telephone number, and personal history statements; evidence of security eligibility determinations and security clearances granted to individuals; report of investigation conducted by investigative agencies and organizations; and certifications of security briefings and debriefings signed by individuals.

Authority for maintenance of the system:

5 U.S.C. 301, Departmental Regulations; 10 U.S.C. 136, Under Secretary of Defense for Personnel and Readiness; E.O. 10450, Security Requirements for Government Employment; E.O. 12958, Classified National Security Information; DoD Regulation 5200.2, DoD Personnel Security Program; and E.O. 9397 (SSN), as amended.

Purpose(s):

Records are used for the purpose of determining suitability, eligibility, or qualifications for federal civilian employment, federal contracts, or access to classified information. DLA Personnel Security Specialists, supervisors, and management officials use the records to determine whether an individual is eligible to occupy a sensitive position and/or have been cleared for or granted access to classified information.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD “Blanket Routine Uses” apply to this system of records.

Policies and practices for storing, retrieving, accessing, retaining, and disposing of records in the system:

Storage:

Records may be stored on paper and/or electronic storage media.

Retrievability:

Records are retrieved alphabetically by subject individual's name and Social Security Number (SSN).

Safeguards:

Access is limited to those individuals who require the records for the performance of their official duties. Paper records are maintained in buildings with controlled or monitored access.

During non-duty hours, records are secured in locked or guarded buildings, locked offices, and/or locked or guarded cabinets. The electronic records system employs user identification and password or smart card technology protocols.

Retention and disposal:

Records of security eligibility determinations, evidence of security clearances and related documents are retained as long as the person is employed or assigned to DLA. After the person leaves DLA, the reports are placed in an inactive file for two years, and then destroyed. Reports of investigations are destroyed 90 days after a security eligibility determination is made.

System manager(s) and address:

Personnel Security Specialists, Defense Logistics Agency, ATTN: DLA Intelligence Office, 8725 John J. Kingman Road, Fort Belvoir, VA 22060-6221; and the Personnel Security Specialists of the DLA Primary Level Field Activities (PLFAs). The PLFA mailing addresses are published as an appendix to DLA's compilation of systems of records notices.

Notification procedure:

Individuals seeking to determine whether information about themselves is contained in this system should address written inquiries to the DLA FOIA/Privacy Act Office, Headquarters, Defense Logistics Agency, ATTN: DGA, 8725 John J. Kingman Road, Suite 1644, Fort Belvoir, VA 22060-6221.

Requests should contain the subject individual's full name, Social Security Number (SSN), date and place of birth, current address, and telephone number.

Record access procedures:

Individuals seeking access to information about themselves contained in this system should address written inquiries to the DLA FOIA/Privacy Act Office, Headquarters, Defense Logistics Agency, ATTN: DGA, 8725 John J. Kingman Road, Suite 1644, Fort Belvoir, VA 22060-6221.

Requests should contain the subject individual's full name, Social Security Number (SSN), date and place of birth, current address, and telephone number.

In addition, the requester must provide a notarized statement or an unsworn declaration made in accordance with 28 U.S.C. 1746, in the following format. The unsworn declaration statement must be signed and dated.

If executed within the United States, its territories, possessions, or commonwealths the statement must read: ‘I declare under penalty of perjury that the foregoing is true and correct. Executed on (date). (Signature).'

If executed outside the United States, its territories, possessions, or commonwealths the statement must read: ‘I declare under penalty of perjury under the laws of the United States of America that the foregoing is true and correct. Executed on (date). (Signature).'

Contesting record procedures:

The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.

Record source categories:

Information is provided by the record subject or from investigative reports.

Exemptions claimed for the system:

Investigatory material compiled solely for the purpose of determining suitability, eligibility, or qualifications for federal civilian employment, federal contracts, or access to classified information may be exempt pursuant to 5 U.S.C. 552a(k)(5), but only to the extent that such material would reveal the identity of a confidential source.

An exemption rule for this system has been promulgated in accordance with the requirements of 5 U.S.C. 553(b)(1), (2) and (3)(c) and (e) and published in 32 CFR part 323. For additional information contact the system manager.

* * * * *

S153.20

System name:

Automated Listing of Eligibility and Clearances (ALEC) (June 8, 2009; 74 FR 27121).

Changes:

* * * * *

System location:

Delete entry and replace with “Headquarters Defense Logistics Agency, 8725 John J. Kingman Road, Fort Belvoir, VA, 22060-6221. Defense Logistics Agency (DLA) Primary Level Field Activities and the DLA Intelligence Office have on-line access to the data concerning personnel under their jurisdiction.”

* * * * *

Purpose(s):

Within entry, replace “Security Managers” with “Personnel Security Specialists.”

* * * * *

System manager(s) and address:

Delete entry and replace with “Personnel Security Specialist, Headquarters, Defense Logistics Agency, 8725 John J. Kingman Road, Fort Belvoir, VA 22060-6221 and Personnel Security Specialists at the DLA Primary Level Field Activities (PLFAs). The PLFA mailing addresses are published as an appendix to DLA's compilation of systems of records notices.”

Notification procedure:

Delete entry and replace with “Individuals seeking to determine whether information about themselves is contained in this system should address written inquiries to the DLA FOIA/Privacy Act Office, Headquarters, Defense Logistics Agency, ATTN: DGA, 8725 John J. Kingman Road, Suite 1644, Fort Belvoir, VA 22060-6221.

Inquiry should contain the individual's full name, Social Security Number (SSN), current address, and telephone number.”

Record access procedures:

Delete entry and replace with “Individuals seeking access to information about themselves contained in this system should address written inquiries to the DLA FOIA/Privacy Act Office, Headquarters, Defense Logistics Agency, ATTN: DGA, 8725 John J. Kingman Road, Suite 1644, Fort Belvoir, VA 22060-6221.

Inquiry should contain the individual's full name, Social Security Number (SSN), current address, and telephone number.”

Contesting record procedures:

Delete entry and replace with “The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.”

* * * * *

S153.20

System name:

Automated Listing of Eligibility and Clearances (ALEC).

System location:

Headquarters Defense Logistics Agency, 8725 John J. Kingman Road, Fort Belvoir, VA, 22060-6221. Defense Logistics Agency (DLA) Primary Level Field Activities and the DLA Intelligence Office have on-line access to the data concerning personnel under their jurisdiction.

Categories of individuals covered by the system:

All DLA civilian and military personnel who have been found eligible for employment in a sensitive position or eligible for or granted a security clearance or access to information classified in the interests of national security.

Categories of records in the system:

Individual's name, Social Security Number (SSN), date of birth, place of birth (state), country, citizenship, job series, category, organization, servicing activity, employing activity, position sensitivity and determination date, type of investigation, investigating agency, date initiated and completed, periodic reinvestigation (PR) due date, eligibility and date, access and date, new investigation pending (type and date initiated), Non-Disclosure Agreement (NDA) executed and date, date of departure, and special accesses.

Authority for maintenance of the system:

E.O. 10450, Security Requirements for Government Employment; E.O. 10865, Safeguarding Classified Information Within Industry; E.O. 12333, United States Intelligence Activities; E.O. 12958, Classified National Security Information; DoD 5200.2-R, DoD Personnel Security Program; and E.O. 9397 (SSN), as amended.

Purpose(s):

Records are collected and maintained for the purpose of centralizing eligibility and clearance information for use by all Defense Logistics Agency Personnel Security Specialists (listings are generated from ALEC in the form of a Record Activity Clearance Eligibility Listing (RACEL)). DLA Personnel Security Specialists use the data to determine whether or not DLA employees are eligible for or occupy sensitive positions; whether they, or assigned military personnel, have been cleared for or granted access to classified information; and the level of such clearance or access, if granted.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To other Federal government agencies and Federal government contractors for the purpose of verifying clearance status and other clearance related information when necessary in the course of official business.

The DoD “Blanket Routine Uses” apply to this system of records.

Policies and practices for storing, retrieving, accessing, retaining, and disposing of records in the system:

Storage:

Records may be stored on paper and/or electronic storage media.

Retrievability:

Individual's name and/or Social Security Number (SSN).

Safeguards:

Records are maintained in a secure, limited access, and monitored work area. Physical entry by unauthorized persons is restricted by the use of locks, guards, and administrative procedures. Access to personal information is restricted to those who require the records in the performance of their official duties. Access to computer records is further restricted by the use of passwords. All personnel whose official duties require access to the information are trained in the proper safeguarding and use of the information and received Information Assurance and Privacy Act training. Paper records are marked FOUO-PRIVACY ACT PROTECTED DATA and stored in a locked container when not in use.

Retention and disposal:

The Automated Listing of Eligibility and Clearance is published monthly and prior listings are destroyed as soon as the new listings are verified, but in no case beyond 90 days. Electronic records are purged two years after the individual departs DLA.

System manager(s) and address:

Personnel Security Specialist, Headquarters, Defense Logistics Agency, 8725 John J. Kingman Road, Fort Belvoir, VA 22060-6221 and Personnel Security Specialists at the DLA Primary Level Field Activities (PLFAs). The PLFA mailing addresses are published as an appendix to DLA's compilation of systems of records notices.

Notification procedure:

Individuals seeking to determine whether information about themselves is contained in this system should address written inquiries to the DLA FOIA/Privacy Act Office, Headquarters, Defense Logistics Agency, ATTN: DGA, 8725 John J. Kingman Road, Suite 1644, Fort Belvoir, VA 22060-6221.

Inquiry should contain the individual's full name, Social Security Number (SSN), current address, and telephone number.

Record access procedures:

Individuals seeking access to information about themselves contained in this system should address written inquiries to the DLA FOIA/Privacy Act Office, Headquarters, Defense Logistics Agency, ATTN: DGA, 8725 John J. Kingman Road, Suite 1644, Fort Belvoir, VA 22060-6221.

Inquiry should contain the individual's full name, Social Security Number (SSN), current address, and telephone number.

Contesting record procedures:

The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.

Record source categories:

Certificates of clearance or types of personnel security investigations previously completed by the Office of Personnel Management, the Joint Personnel Adjudication System, the Federal Bureau of Investigation, and investigative units of the Army, Navy, Air Force, or other Federal agencies.

Exemptions claimed for the system:

None.

[FR Doc. 2011-11771 Filed 5-12-11; 8:45 am]

BILLING CODE 5001-06-P